Title 3—

The President

Proclamation 8648 of April 6, 2011

National D.A.R.E. Day, 2011

By the President of the United States of America

A Proclamation

As a Nation, we must work to raise a drug-free and healthy generation of 21st-century leaders. Substance abuse and its consequences have grave impacts on our society—destroying lives, tearing apart families, and introducing drug-related violence to our neighborhoods. Young Americans especially need the help and support of caring adults to resist pressure to use drugs or engage in other harmful activities.

We must address the use of illegal drugs, tobacco, and alcohol, as well as prescription drug abuse, among youth by building knowledge of the warning signs and risks associated with substance abuse. Though parents must take the lead in teaching the value of drug-free living, friends, mentors, teachers, and neighbors also have roles to play in helping adolescents understand the dangers of alcohol and drug addiction. By joining together to tackle this issue and encourage positive behavior, communities can help young people reject the pressure to try illicit substances or engage in other hazardous activity. I encourage students, caregivers, and other concerned individuals to visit www.DrugAbuse.gov for educational materials on the health effects and consequences of drug abuse and addiction.

Law enforcement is often a critical partner in implementing community-based drug abuse prevention strategies. The Drug Abuse Resistance Education (D.A.R.E.) program, in addition to many other prevention efforts across our country, serves as a resource in helping educate young people on how to resist peer pressure and refrain from drug use and violence.

My Administration is committed to reducing drug use and its consequences through a balanced approach that includes prevention, treatment, and law enforcement, and we are supporting national efforts to prevent drug use before it starts. As we work to reduce substance abuse and the great damage it causes in our communities, we will make our country stronger and our people healthier and safer.

NOW, THEREFORE, I, BARACK OBAMA, President of the United States of America, by virtue of the authority vested in me by the Constitution and the laws of the United States, do hereby proclaim April 7, 2011, as National D.A.R.E. Day. I call upon all Americans to observe this day with appropriate programs and activities.

IN WITNESS WHEREOF, I have hereunto set my hand this sixth day of April, in the year of our Lord two thousand eleven, and of the Independence of the United States of America the two hundred and thirty-fifth.

[FR Doc. 2011-8727

Filed 4-8-11; 8:45 am]

Billing code 3195-W1-P